FEDERAL COMMUNICATIONS COMMISSION

47 CFR Part 2

[ET Docket No. 24-136; Report No. 3231; FR ID 327063]

Petition for Reconsideration of Action in Rulemaking Proceeding

AGENCY: Federal Communications Commission.

SUMMARY: Petition for Reconsideration (Petition) has been filed in the Commission's proceeding by On behalf of Garmin International, Inc.

DATES: Oppositions to the Petition must be filed on or before February 9, 2026. Replies to oppositions to the Petition must be filed on or before February 17, 2026.

ADDRESSES: Federal Communications Commission, 45 L Street NE, Washington, DC 20554.

FOR FURTHER INFORMATION CONTACT: Katherine Nevitt of the Office of Engineering and Technology, at Ketherine.Nevitt@fcc.gov or 202-362-3017.

SUPPLEMENTARY INFORMATION: This is a summary of the Commission's document, Report No. 3231, released January 14, 2026. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Promoting the Integrity and Security of Telecommunications Certification Bodies, Measurement Facilities, and the Equipment Authorization Program (ET Docket No. 24-136).

Number of Petitions Filed: 1.

Federal Communications Commission.
Marlene Dortch,
Secretary, Office of the Secretary.

[FR Doc. 2026-01281 Filed 1-22-26; 8:45 am]

BILLING CODE 6712-01-P